FEDERAL MINE SAFETY AND HEALTH REVIEW COMMISSION

Sunshine Act Meetings

TIME AND DATE: 10 a.m., Tuesday, June 24, 2025.

PLACE: The meeting will be held via remote means and/or in the Richard V. Backley Hearing Room, Room 511, 1331 Pennsylvania Avenue NW, Suite 504 North, Washington, DC 20004.

STATUS: Closed.

MATTERS TO BE CONSIDERED: The Commission will conduct a meeting closed to the public to consider motions to reopen in the following matters: (1) Argos Puerto Rico Corp., Docket No. SE 2025-0061; (2) MDI Mining, Docket No. WEST 2025-0154; and (3) Nelson Quarries, Docket No. CENT 2025-0191. Commissioners will attend the meeting. Commission staff members who provide technological support and other Commission staff may also be present as necessary. This meeting is closed to the public pursuant to 5 U.S.C. 552b(c)(10) on the basis of the Commission's consideration or disposition of a “particular case of formal agency adjudication.”

CONTACT PERSON FOR MORE INFORMATION: Rory P. Smith (202) 525-8649/(202) 708-9300 for TDD Relay/1-800-877-8339 for toll free.

Authority: 5 U.S.C. 552b.

Dated: June 6, 2025.
Rory P. Smith,
Attorney-Advisor.

[FR Doc. 2025-10585 Filed 6-6-25; 11:15 am]

BILLING CODE 6735-01-P